DEPARTMENT OF COMMERCE

National Oceanic and Atmospheric Administration

RIN: 0648-XS15

North Pacific Fishery Management Council; Public Meetings

AGENCY: National Marine Fisheries Service (NMFS), National Oceanic and Atmospheric Administration (NOAA), Commerce.

ACTION: Notice of public meetings.

SUMMARY: The Eight Regional Fishery Management Councils will convene a meeting of representatives of their respective Scientific and Statistical Committee (SSCs) at the Wyndam Sugar Bay Resort, St. Thomas, United States Virgin Islands, November 10-13, 2009.

DATES: The meetings will be held November 10-13, 2009, with travel dates November 9 and 14.

ADDRESSES: The meetings will be held at the Wyndam Sugar Bay Resort, 6500 Estate Smith Bay, St Thomas, U.S. Virgin Islands.

Council address: North Pacific Fishery Management Council, 605 W. 4th Ave., Suite 306, Anchorage, AK 99501-2252.

FOR FURTHER INFORMATION CONTACT: David Witherell at the North Pacific Fishery Management Council, telephone: (907) 271-2809 or Diana Martino at the Caribbean Fishery Management Council, telephone: (787) 766-5926.

SUPPLEMENTARY INFORMATION: The Magnuson Stevens Fishery Conservation and Management Act (MSA) requires that each Council maintain and utilize its SSCs to assist in the development, collection, evaluation, and peer review of information relevant to the development and amendment of fishery management plans (FMPs). In addition, the MSA mandates that each SSC shall provide its Council ongoing scientific advice for fishery management decisions, including recommendations for acceptable biological catch (ABC), preventing overfishing, maximum sustainable yield, and achieving rebuilding targets, and reports on stock status and health, bycatch, habitat status, social and economic impacts of management measures, and sustainability of fishing practices. On January 16, 2009, the National Marine Fisheries Service (NMFS) issued final revised guidelines for National Standard 1 (NS1) of the MSA on how to comply with the new annual catch limit (ACL) requirements for ending overfishing of federal fisheries. The law requires that ACLs be implemented by 2011. The primary objective of this workshop is to discuss best practices and approaches for setting scientifically based catch limits.

Tuesday, November 10, 2009; 9 a.m. - Peer review: National Standard 2: Update and discussion; Meeting NMFS and Council objectives for best scientific information available and peer reviews; Clarifying the role of SSCs in the review of scientific information; Scientific Uncertainty: Report from NMFS; Quantifying scientific uncertainty in Over Fishing Limits (OFLs); Status report from each SSC on approaches being taken to implement ABCs

Wednesday, November 11, 2009; 8 a.m. - Discussion of Scientific Uncertainty; Can we get to full probabilistic methods for setting buffer between OFL and ABC?; Proxies for unmeasured uncertainty and tiered approaches to setting buffers; Using stock vulnerability in setting level of risk aversion; Hitting the Target: Optimum Yield (OY) Overview including requirements and relationship with ACL/Annual Catch Target (ACTs); Defining Maximum Economic Yield (MEY) and MEY Control Rules; Management Strategy Evaluations; Accounting for management uncertainty including the use of ACTs.

Thursday, November 12, 2009; 8 a.m. - Other NS1 issues: Dealing with data poor situations: Best proxies for Fishing mortality rate associated with maximum sustainable yield (Fmsy); Science advice when only catch is known; How to group stocks into complexes; Rebuilding plans and policies; and a discussion on other contemporary fishery management issues.

Friday, November 13, 2009; 8 a.m.-Discussion and meeting conclusions/recommendations; 12 noon—Closing remarks. The Agenda is subject to change, and the latest version will be posted at www.fisherycouncils.org.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: October 14, 2009.
Tracey L. Thompson,
Acting Director, Office of Sustainable Fisheries, National Marine Fisheries Service.

[FR Doc. E9-25024 Filed 10-16-09; 8:45 am]

BILLING CODE 3510-22-S